DEPARTMENT OF THE INTERIOR

Bureau of Land Management

[ID-933-1430-ET; DK-G04-0003; IDI-7322]

Notice of Proposed Withdrawal Extensions and Public Meetings; Idaho

AGENCY: Bureau of Land Management, Interior.

ACTION: Notice.

SUMMARY: The Bureau of Land Management (BLM) has filed an application proposing to extend Public Land Order Nos. 6629 and 6670 for additional 20-year terms. The Public Land Orders withdrew public lands and reserved mineral interests from settlement, sale, location, and entry under the general land laws, including the mining laws, to protect the recreational and scenic values of the Lower Salmon River. This notice gives the public an opportunity to comment on the proposed action and gives notice for scheduled public meetings in connection with the proposed withdrawal extensions.

DATES: Public meetings will be held on Tuesday, October 18, 2005 in Lewiston, Idaho at the Community Center located at 1424 Main Street; and Thursday, October 20, 2005 in Riggins, Idaho at the Best Western Salmon Rapids Lodge located at 1010 South Main Street. Both meetings will be held from 7:30 p.m. to 9 p.m.

ADDRESSES: All persons who wish to submit comments in connection with the proposed withdrawal extensions should do so in writing. Comments must be addressed to the Idaho State Director (933), BLM, Idaho State Office, 1387 S. Vinnell Way, Boise, Idaho 83709, and, to be considered, must be received by BLM on or before November 21, 2005.

FOR FURTHER INFORMATION CONTACT: Jackie Simmons, BLM, Idaho State Office, 1387 S. Vinnell Way, Boise, Idaho 83709, 208-373-3867 or Ron Grant, BLM, Cottonwood Field Office, House 1, Butte Drive Route 3, Box 181, Cottonwood, Idaho 83522, 208-962-3680.

SUPPLEMENTARY INFORMATION: The withdrawals created by Public Land Order Nos. 6629 (51 FR 41104-41105) and 6670 (53 FR 10535-10536) will expire on November 12, 2006 and March 31, 2008, respectively, unless extended. The Bureau of Land Management has filed an application to extend these withdrawals for additional 20-year terms to protect the remote, undeveloped character and outstanding scenic and recreational values of the Lower Salmon River Canyon. The withdrawals in total comprise approximately 18,531.69 acres of public lands and 8,062.12 acres of reserved mineral interests in private lands located in Lewis and Nez Perce Counties. Complete legal descriptions can be found in the published public land orders and, if requested, copies will be provided by the BLM Idaho State Office or the BLM Cottonwood Field Office at the addresses shown above.

As extended, the withdrawal would not alter the applicability of those public land laws governing the use of the lands under lease, license, or permit, or governing the disposal of their mineral or vegetative resources other than under the mining laws.

The use of a right-of-way, or a cooperative agreement would not provide the needed protection.

There are no suitable alternative sites as the described lands contain the resource values in need of preservation and protection. The withdrawals would not displace any existing uses.

Water rights will not be needed to fulfill the purpose of the requested withdrawal.

All persons who wish to submit comments in connection with the proposed withdrawal extensions may present their views in writing at the public meetings or to the Idaho State Director of the Bureau of Land Management at the address above. To be considered, comments must be received by BLM on or before November 21, 2005. Comments, including names and street addresses of respondents, will be available for public review during regular business hours at the BLM Idaho State Office. Individual respondents may request confidentiality. If you wish to withhold your name or address from public review or from disclosure under the Freedom of Information Act, you must state this prominently at the beginning of your comments. Such requests will be honored to the extent allowed by law. All submissions from organizations or businesses, and from individuals identifying themselves as representatives or officials of organizations or businesses, will be made available for public inspection in their entirety.

The withdrawal extensions will be processed in accordance with the regulations set forth in 43 CFR 2310.4.

(Authority: 43 CFR 2310.3-1(b)(1).

Dated: June 28, 2005.
Jimmie Buxton,
Branch Chief for Lands, Minerals, & Water Rights.

[FR Doc. 05-14185 Filed 7-18-05; 8:45 am]

BILLING CODE 4310-GG-P